DEPARTMENT OF TRANSPORTATION

Surface Transportation Board

[STB Docket No. AB-68 (Sub-No. 4X)]

Lake Superior & Ishpeming Railroad Company—Abandonment Exemption—in Marquette County, MI

On October 22, 2004, Lake Superior & Ishpeming Railroad Company (LS&I), a wholly owned subsidiary of Cleveland-Cliffs, Inc., filed with the Surface Transportation Board a petition under 49 U.S.C. 10502 for exemption from the provisions of 49 U.S.C. 10903 to abandon a segment of a line of railroad known as the Republic Subdivision, extending from Humboldt Jct. (milepost 85.6) south approximately 8.9 miles to the end of track at Republic Mine (milepost 94.5), in Marquette County, MI.¹ The line traverses United States Postal Service Zip Codes 49814 and 49879, and includes the stations of Humboldt Jct., Humboldt, and Republic Mine.

¹ Initially, this petition for exemption also involved two additional line segments but it was rejected in its entirety because it could not be processed as filed. Subsequently, LS&I filed a petition for reconsideration requesting reinstatement of the petition for exemption as to the above segment only. By decision served October 22, 2004, LS&I's request was granted, with the official filing date of the revised petition for exemption deemed to be October 22, 2004.

The line does not contain federally granted rights-of-way. Any documentation in LS&I's possession will be made available promptly to those requesting it.

The interest of railroad employees will be protected by the conditions set forth in Oregon Short Line R. Co.—Abandonment—Goshen, 360 I.C.C. 91 (1979).

By issuance of this notice, the Board is instituting an exemption proceeding pursuant to 49 U.S.C. 10502(b). A final decision will be issued by January 14, 2005.²

² Based on a filing date of October 22, 2004, the deadline for issuance of the final decision normally would be February 9, 2005. However, the Board will endeavor to issue a decision on the merits no later than January 14, 2005.

Any offer of financial assistance (OFA) under 49 CFR 1152.27(b)(2) will be due no later than 10 days after service of a decision granting the petition for exemption. Each OFA must be accompanied by a $1,200 filing fee.³

³ The OFA filing fee increases from $1,100 to $1,200, effective October 31, 2004. See Regulations Governing Fees for Services Performed in Connection with Licensing and Related Services—2004 Update, STB Ex Parte No. 542 (Sub-No. 11) (STB served Oct. 1, 2004).

All interested persons should be aware that, following abandonment of rail service and salvage of the line, the line may be suitable for other public use, including interim trail use. Any request for a public use condition under 49 CFR 1152.28 or for trail use/rail banking under 49 CFR 1152.29 will be due no later than November 26, 2004. Each trail use request must be accompanied by a $200 filing fee. See 49 CFR 1002.2(f)(27).

All filings in response to this notice must refer to STB Docket No. AB-68 (Sub-No. 4X) and must be sent to: (1) Surface Transportation Board, 1925 K Street, NW., Washington, DC 20423-0001, and (2) Edward T. Lyons, Jr., 1625 Broadway, 16th Floor, Denver, CO 80202. Replies to the LS&I petition are due on or before November 26, 2004.

Persons seeking further information concerning abandonment procedures may contact the Board's Office of Public Services at (202) 565-1592 or refer to the full abandonment or discontinuance regulations at 49 CFR part 1152. Questions concerning environmental issues may be directed to the Board's Section of Environmental Analysis (SEA) at (202) 565-1539. [Assistance for the hearing impaired is available through the Federal Information Relay Service (FIRS) at 1-800-877-8339.]

An environmental assessment (EA) (or environmental impact statement (EIS), if necessary), prepared by SEA, will be served upon all parties of record and upon any agencies or other persons who commented during its preparation. Other interested persons may contact SEA to obtain a copy of the EA (or EIS). EAs in these abandonment proceedings normally would be available within 60 days of the filing of the petition, but SEA will endeavor to make the EA available by November 22, 2004. The deadline for submission of comments on the EA will generally be within 30 days of its service.

Board decisions and notices are available on our Web site at http://www.stb.dot.gov.

Decided: October 26, 2004.
By the Board, David M. Konschnik, Director, Office of Proceedings.
Vernon A. Williams,
Secretary.

[FR Doc. 04-24324 Filed 11-4-04; 8:45 am]

BILLING CODE 4915-01-P